NUCLEAR REGULATORY COMMISSION

[Docket No. 70-3103; NRC-2010-0264]

Uranium Enrichment Fuel Cycle Inspection Reports Regarding Louisiana Energy Services, National Enrichment Facility, Eunice, New Mexico, Prior to the Commencement of Operations

AGENCY: Nuclear Regulatory Commission.

ACTION: Notice of availability.

SUMMARY: The U.S. Nuclear Regulatory Commission (NRC) staff has conducted inspections of the Louisiana Energy Services (LES), LLC, National Enrichment Facility in Eunice, New Mexico, and has authorized the introduction of uranium hexafluoride (UF6) into cascades numbered 3.10, 3.11, 3.12, 4.1, 4.2, 4.3 and 4.5. In addition, the NRC verified that the systems, structures, and components designed to support safe operation of Autoclave #2 of the facility have been constructed in accordance with the requirements of the approved license.

ADDRESSES: Please refer to Docket ID NRC-2010-0264 when contacting the NRC about the availability of information regarding this document. You may access publicly-available information related to this action by the following methods:

• Federal Rulemaking Web site: Go to http://www.regulations.gov and search for Docket ID NRC-2010-0264. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. In addition, for the convenience of the reader, the ADAMS accession numbers are provided in a table in the section of this document entitled, II. Availability of Documents.

• NRC's PDR: You may examine and purchase copies of public documents at the NRC's PDR, Room O1-F21, One White Flint North, 11555 Rockville Pike, Rockville, Maryland 20852.

FOR FURTHER INFORMATION CONTACT: Michael Raddatz, Office of Nuclear Material Safety and Safeguards, U.S. Nuclear Regulatory Commission, Washington, DC 20555-0001; telephone: 301-287-9124; email: Michael.Raddatz@nrc.gov.

SUPPLEMENTARY INFORMATION:

I. Further Information

The NRC staff has prepared inspection reports documenting its findings in accordance with the requirements of the NRC's Inspection Manual, and these reports are available for review as specified in Section II of this notice. The publication of this notice satisfies the requirements of Section 70.32(k) of Title 10 of the Code of Federal Regulations (10 CFR), and section 193(c) of the Atomic Energy Act of 1954, as amended.

The introduction of UF6 into any module of the National Enrichment Facility is not permitted until the NRC completes an operational readiness and management measures verification review to verify that management measures that ensure compliance with the performance requirements of 10 CFR 70.61 have been implemented and confirms that the facility has been constructed in accordance with the license and will be operated safely. Subsequent operational readiness and management measures verification reviews will continue throughout the various phases of plant construction and, upon completion of these subsequent phases, additional notices of the operation approval letters will be published in the Federal Register in accordance with 10 CFR 70.32(k).

II. Availability of Documents

Documents related to this action, including the application for amendment and supporting documentation, are available online in the NRC Library at http://www.nrc.gov/reading-rm/adams.html. From this site, you can access the NRC's Agencywide Document Access and Management System (ADAMS), which provides text and image files of NRC's public documents. Inspection reports associated with the approval letters are referenced in the letters and are also available electronically in ADAMS. Accession numbers for the approval letters are being noticed here as follows:

NRC Cascades Authorization Letters
Authorization letters | Date | ADAMS accession No.
Cascade numbered 3.10 | April 01, 2013 | ML13092A072
Cascade numbered 3.11 | June 07, 2013 | ML13161A091
Cascade numbered 3.12 | May 23, 2013 | ML13144A094
Cascade numbered 4.1 | June 24, 2013 | ML13175A032
Cascade numbered 4.2 | July 18, 2013 | ML13205A143
Cascade numbered 4.3 | August 13, 2013 | ML13226A038
Cascade numbered 4.5 | September 20, 2013 | ML13263A052

NRC Authorization Letter Related to the Autoclave #2
Authorization letter | Date | ADAMS accession No.
LES Autoclave #2 | June 13, 2013 | ML13165A019

NRC Authorization Letter Related to the Cylinder Receipt and Dispatch Building (CRDB)
Authorization letter | Date | ADAMS accession No.
Liquid Effluent Collection and Transfer System and Small Component Decontamination Train Authorization | August 13, 2013 | ML13225A542

NRC Inspection Reports
Inspection report Nos. | Date | ADAMS accession No.
IR 07003103/2013-201 | May 16, 2013 | ML13127A181
IR 07003103/2013-001 | March 19, 2013 | ML13078A028
IR 07003103/2013-002 | April 26, 2013 | ML13116A175
IR 07003103/2013-003 | July 29, 2013 | ML13210A291
IR 07003103/2013-006 | August 2, 2013 | ML13214A141

If you do not have access to ADAMS or if there are problems in accessing the documents located in ADAMS, contact the NRC Public Document Room (PDR) Reference staff at 1-800-397-4209, 301-415-4737 or by email to pdr.resource@nrc.gov.

These documents may also be viewed electronically on the public computers located at the NRC's PDR, O 1 F21, One White Flint North, 11555 Rockville Pike, Rockville, MD 20852. The PDR reproduction contractor will copy documents for a fee.

Dated at Rockville, Maryland, this 4th day of October, 2013.
For the U.S. Nuclear Regulatory Commission.
Brian W. Smith,
Chief, Uranium Enrichment Branch, Division of Fuel Cycle Safety and Safeguards, Office of Nuclear Material Safety and Safeguards.

[FR Doc. 2013-24891 Filed 10-23-13; 8:45 am]

BILLING CODE 7590-01-P